DEPARTMENT OF THE INTERIOR

Fish and Wildlife Service

Availability of Environmental Document and Receipt of an Application for an Incidental Take Permit Associated With a Safe Harbor Agreement for Metropolitan Water District of Southern California Ormond Beach Property, Ventura County, CA

AGENCY: Fish and Wildlife Service, Interior.

ACTION: Notice of availability.

SUMMARY: This notice advises the public that Metropolitan Water District of Southern California (MWD) has applied to the U.S. Fish and Wildlife Service (Service or “we”) for an enhancement of survival permit pursuant to section 10(a)(1)(A) of the Endangered Species Act of 1973, as amended (Act). The permit application includes a proposed Safe Harbor Agreement (Agreement) between the applicant and the Service. The Agreement proposes to enroll 296 acres of land, which includes 276 acres that is to provide for the preservation of coastal marsh and wetlands to aid in the conservation of the endangered brown pelican (Pelecanus occidentalis), California least tern (Sterna antillarum browni), light-footed clapper rail (Rallus longirostris levipes), tidewater goby (Eucyclogobius newberryi), salt marsh bird's beak (Cordylanthus maritimus ssp. maritimus), Ventura marsh milk-vetch (Astragalus pycnostachyus var. lanosissimus) and threatened western snowy plover (Charadrius alexandrinus nivosus), and 20 acres of ongoing farming activities which will eventually be developed for industrial or commercial use. The proposed enrolled lands are properties owned by MWD at Ormond Beach, Ventura County, California. The proposed duration of the Agreement and permit is 75 years.

The Service has made a preliminary determination that the proposed Agreement and permit application are eligible for categorical exclusion under the National Environmental Policy Act of 1969 (NEPA). The basis for this determination is contained in an Environmental Action Statement, which also is available for public review.

DATES: Written comments should be received on or before June 2, 2005.

ADDRESSES: Please address written comments to Diane Noda, Field Supervisor, Ventura Fish and Wildlife Office, U.S. Fish and Wildlife Service, 2493 Portola Road, Suite B, Ventura, California 93003. You may also send comments by facsimile to (805) 644-3958. (see Public Review and Comment section below).

FOR FURTHER INFORMATION CONTACT: Chris Dellith, Senior Biologist for northern Los Angeles/Ventura/southern Santa Barbara counties, (see ADDRESSES) telephone: (805) 644-1766.

SUPPLEMENTARY INFORMATION:

Background

Under a Safe Harbor Agreement, participating landowners voluntarily undertake management activities on their property to enhance, restore, or maintain habitat benefiting species listed under the Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22(c). The Applicant has developed the proposed Agreement for 296 acres of enrolled land for the conservation of the federally listed brown pelican, California least tern, light-footed clapper rail, tidewater goby, salt marsh bird's beak, Ventura marsh milk-vetch, and the western snowy plover (Covered Species) on property at Ormond Beach in Ventura County. The conservation measure in the Agreement calls for the preservation of 276 acres of coastal wetland. The preservation of these 276 acres will be accomplished through the sale of the property to a non-profit conservation organization with a deed restriction, in perpetuity, that requires the property be used for open space, habitat preservation, wetland restoration, and public access only. The MWD plans to retain 20 acres, of the 296 acres of enrolled lands, at the Ormond Beach project site for ongoing farming operations and potential development for commercial and industrial use.

Although none of the Covered Species, except for western snowy plover, currently occur on the 296 acres of enrolled lands, the preservation of the 276 acres, with the deed restriction, could benefit all of the Covered Species in the future. The Covered Species are threatened with loss and degradation of the coastal habitats with which they are strongly associated. All of the species are likely to benefit through the preservation of open space and suitable habitat into which dispersing individuals from expanding populations elsewhere can move, or, in the case of the covered plants, direct introduction from source populations.

The conservation measure set forth in the Agreement is expected to result in the following net conservation benefits to the Covered Species: (1) Insurance against the decline of the Covered Species in the general area as a result of habitat loss; (2) increased availability of suitable breeding and foraging habitat through preservation and eventual restoration of the property; (3) reduced fragmentation, and potential increased connectivity of populations in the general area; and, (4) likelihood of increased population sizes of the Covered Species in the general area.

Consistent with the Service's Safe Harbor policy and regulations, the Service proposes to issue a permit to MWD authorizing incidental take as a result of normal farming activities currently occurring on the 20 acre property. Normal farming activities include planting, harvesting, weed and insect control, pruning, mowing, discing, operation of vehicles and farm equipment, and similar activities.

This Agreement and permit will also authorize MWD incidental take of the Covered Species above MWD's baseline responsibilities on the 296 acres of enrolled lands, at the end of the term of the 75-year Agreement, if so desired by MWD.

The Service has made a preliminary determination that approval of the Agreement qualifies as a categorical exclusion under NEPA, as provided by the Department of Interior Manual (516 DM 2, Appendix 1 and 516 DM 6, Appendix 1) based on the following criteria: (1) Implementation of the Agreement would result in minor or negligible effects on federally listed, proposed, and candidate species and their habitats; (2) implementation of the Agreement would result in minor or negligible effects on other environmental values or resources; and (3) impacts of the Agreement, considered together with the impacts of other past, present and reasonably foreseeable similarly situated projects would not result, over time, in cumulative effects to environmental values or resources which would be considered significant. This is more fully explained in our Environmental Action Statement.

Based upon this preliminary determination, we do not intend to prepare further NEPA documentation. The Service will consider public comments in making its final determination on whether to prepare such documentation.

Public Review and Comments

Individuals wishing copies of the permit application, the Environmental Action Statement, or copies of the full text of the Agreement, including a map of the proposed permit area, references, and legal descriptions of the proposed permit area, should contact the office and personnel listed in the ADDRESSES section above. Documents also will be available for public inspection, by appointment, during normal business hours at the Ventura Fish and Wildlife Office (ADDRESSES section above).

The Service provides this notice pursuant to section 10(c) of the Act and pursuant to implementing regulations for NEPA (40 CRF 1506.6). All comments received on the permit application and Agreement, including names and addresses, will become part of the Administration record and may be released to the public. If you wish us to withhold your name and/or address, you must state this prominently at the beginning of your comment. Anonymous comments will not be considered. All submissions from organizations or businesses are available for public inspection in their entirety.

We will evaluate the permit application, the Agreement, and comments submitted thereon to determine whether the application meets the requirements of section 10(a) of the Act and NEPA regulations. If the requirements are met, the Service will sign the proposed Agreement and issue an enhancement of survival permit under section 10(a)(1)(A) of the Act to MWD for the take of the seven covered species incidental to otherwise lawful activities of the project. The Service will not make a final decision until the end of the 30-day comment period and will fully consider all comments received during the comment period.

Dated: April 26, 2005.
Ken McDermond,
Deputy Manager, California/Nevada Operations Office, Sacramento, California.

[FR Doc. 05-8752 Filed 5-2-05; 8:45 am]

BILLING CODE 4310-55-U